DEPARTMENT OF TRANSPORTATION

Office of the Secretary

[Docket DOT-OST-2009-0116]

Application of Key Lime Air Corporation for Commuter Authority

AGENCY: Department of Transportation.

ACTION: Notice of Order To Show Cause (Order 2012-7-5); Docket DOT-OST-2009-0116.

SUMMARY: The Department of Transportation is directing all interested persons to show cause why it should not issue an order finding Key Lime Air Corporation fit, willing, and able, and awarding it a Commuter Air Carrier Authorization.

DATES: Persons wishing to file objections should do so no later than August 6, 2012.

ADDRESSES: Objections and answers to objections should be filed in Docket DOT-OST-2009-0116 and addressed to U.S. Department of Transportation, Docket Operations, (M-30, Room W12-140), 1200 New Jersey Avenue, SE., West Building Ground Floor, Washington, DC 20590, and should be served upon the parties listed in Attachment A to the order.

FOR FURTHER INFORMATION CONTACT: Vanessa R. Balgobin, Air Carrier Fitness Division (X-56, Room W86-487), U.S. Department of Transportation, 1200 New Jersey Avenue SE., Washington, DC 20590, (202) 366-9721.

Dated: July 6, 2012.
Susan L. Kurland,
Assistant Secretary for Aviation and International Affairs.

[FR Doc. 2012-18741 Filed 7-31-12; 8:45 am]

BILLING CODE P